NEIGHBORHOOD REINVESTMENT CORPORATION

Sunshine Act Meetings

TIME AND DATE: 2:00 p.m., Monday, December 18, 2023.

PLACE: 1255 Union Street NE, Suite 500, Washington, DC 20002.

STATUS: Parts of this meeting will be open to the public. The rest of the meeting will be closed to the public.

MATTERS TO BE CONSIDERED:

Regular Board of Directors Meeting

The Interim General Counsel of the Corporation has certified that in her opinion, one or more of the exemptions set forth in the Government in the Sunshine Act, 5 U.S.C. 552b(c)(2) and (4) permit closure of the following portion(s) of this meeting:

• Executive (Closed) Session

Agenda

I. Call to Order

II. Sunshine Act Approval of Executive (Closed) Session

III. Executive Session: Report From CEO

IV. Executive Session: Report From CFO

V. Executive Session: GAO Workplan Update

VI. Executive Session: Report From Interim General Counsel

VII. Executive Session: Report From CIO

VIII. Executive Session: NeighborWorks Compass Update

IX. Action Item: Approval of Meeting Minutes—October 2 Audit Committee Meeting and October 19 Regular Board of Directors Meeting

X. Action Item: Delegation of Authority—Venue Contracts—Philadelphia (February 2025) and New Orleans (August 2025)

XI. Discussion Item: November 29 Audit Committee Meeting

XII. Discussion Item: Delegation of Authority—Future Venue Contracts

XIII. Discussion Item: Strategic Planning Process

XIV. 2024 Board Meeting Schedule

XV. Management Program Background and Updates Other Reports

a. 2024 Board Calendar

b. 2024 Board Agenda Planner

c. CFO Report

i. Financials (through 9/30/23)

ii. Single Invoice Approvals $100K and over

iii. Vendor Payments $350K and over

iv. Exceptions

d. Programs Dashboard

e. Housing Stability Counseling Program (HSCP)

f. Strategic Plan Scorecard—FY23 Q3

PORTIONS OPEN TO THE PUBLIC: Everything except the Executive (Closed) Session.

PORTIONS CLOSED TO THE PUBLIC: Executive (Closed) Session.

CONTACT PERSON FOR MORE INFORMATION: Jenna Sylvester, Paralegal, (202) 568-2560; jsylvester@nw.org.

Jenna Sylvester,
Paralegal.

[FR Doc. 2023-27028 Filed 12-5-23; 4:15 pm]

BILLING CODE P